DEPARTMENT OF ENERGY

Energy Efficient Building Systems Regional Innovation Cluster Initiative—Joint Federal Funding Opportunity Announcement Information Session II

AGENCY: Department of Energy (DOE).

ACTION: Notice of public webinar.

SUMMARY: This notice announces a second information session for potential applicants, partner organizations, and other interested parties to learn more about the Joint Federal Funding Opportunity Announcement (FOA) (see http://www.energy.gov/hubs/eric.htm) issued on February 8, 2010, titled the Energy Efficient Building Systems Regional Innovation Cluster Initiative. A single proposal submitted by a consortium of applicants will be funded at a total of up to $129.7 million over 5 years to foster a regional innovation cluster focused on innovation in energy efficient building technologies and systems design. The DOE-funded Energy Efficient Building Systems Design Hub (the “Hub”) will serve as a centerpiece of the regional innovation cluster (the “Energy Regional Innovation Cluster” or “E-RIC”) and will work to disseminate new technologies into the marketplace and share best practices with the public and private sectors. By linking researchers in the Hub with local businesses and supporting specialized workforce education and training in the area, the Consortium will foster an economically dynamic regional innovation cluster focused on energy efficient buildings technologies and systems design. The Hub, one of three Energy Innovation Hubs to be created by the DOE in Fiscal Year 2010, will bring together a multidisciplinary team of researchers ideally working under one roof to conduct high-risk, high-reward research that overcomes technology challenges through approaches that span basic research to engineering development to commercialization readiness. The Hub will work with key partners funded by EDA, NIST, SBA, DOL, ED and NSF to foster the Energy Regional Innovation Cluster and leverage the collective resources and expertise of the seven federal agencies involved. During this public webinar, representatives from these agencies will discuss the most frequently asked questions related to the joint FOA and answer any additional questions.

DATES: Wednesday, April 14, 2010, 1:30 p.m.-3:30 p.m. EDT (Participants should register before this date and begin accessing the site between 1 p.m. and 1:15 p.m. on the day of the webinar.)

FOR FURTHER INFORMATION CONTACT: Ron Lewis at Ronald.Lewis@ee.doe.gov.

SUPPLEMENTARY INFORMATION: Purpose of the Meeting: To answer questions from potential applicants and other interested parties about the joint FOA for the Energy Efficient Building Systems Regional Innovation Cluster Initiative.

Tentative Agenda (Subject to Change):

1:30 p.m.-1:45 p.m. Introduction/Background.

1:45 p.m.-2:15 p.m. Discussion of Frequently Asked Questions.

2:15 p.m.-3:30 p.m. Question and Answer Session.

Public Participation: In keeping with procedures, members of the stakeholder community and the general public are welcome to observe the business of the session and to submit their questions. Advance registration is required to participate in the webinar. To register for the webinar:

1. Click on the following link: http://www.workforce3one.org/view/5001008860876004249/info. Participants will be directed to the webinar registration page.

2. At the registration page, scroll to the right hand side of the page and select “log in.”

3. Participants will be prompted to log-in to Workforce3one and then redirected back to the registration page. [If you are not already registered for the Workforce3one Web site, select “sign up for Workforce3one.” Participants will be prompted to register for Workforce3one. (Registration is quick and free of charge). Once you have registered, you will be sent an e-mail to enable your Workforce3one account. You will need to enable your Workforce3one account before you can register for the webinar.]

4. Select “Reserve Seat Now.”

Participants will receive an e-mail that confirms their webinar registration. Prior to the webinar, participants will receive e-mail instructions for dialing into the conference call and logging into the presentation. If multiple participants from the same location are joining the live event, we encourage you to participate in the webinar at one location. If you experience difficulty with the registration process or with accessing a webinar on the day of the event, please send an e-mail to webinars@workforce3one.org or call 732-918-8000 for immediate assistance.

Minutes: The webinar will be archived and can be accessed through the E-RIC Web site at: www.energy.gov/hubs/eric.htm. The questions and answers discussed during the webinar will also be posted on the E-RIC Web site.

Issued in Washington, DC, on April 1, 2010.
Henry Kelly,
Principal Deputy Assistant Secretary, Energy Efficiency and Renewable Energy, Department of Energy.

[FR Doc. 2010-7857 Filed 4-6-10; 8:45 am]

BILLING CODE 6450-01-P